ENVIRONMENTAL PROTECTION AGENCY

[FRL-7152-2]

Proposed Settlement Agreement

AGENCY: Environmental Protection Agency.

ACTION: Notice of proposed settlement agreement; request for public comment.

SUMMARY: In accordance with section 113(g) of the Clean Air Act, as amended, 42 U.S.C. 7413(g), notice is hereby given of a proposed settlement agreement in American Foundrymen's Society, et al. v. EPA, No. 00-1208 (D.C. Circuit). This case concerns the National Emission Standard for Hazardous Air Pollutants for Secondary Aluminum Production, 40 CFR part 63, subpart RRR, published at 65 FR 15710 on March 23, 2000. The proposed settlement agreement was lodged with the United States Court of Appeals for the District of Columbia Circuit on January 11, 2002.

DATES: Written comments on the proposed settlement agreement must be received by April 4, 2002.

ADDRESSES: Written comments should be sent to Timothy D. Backstrom, Air and Radiation Law Office (2344A), Office of General Counsel, U.S. Environmental Protection Agency, 1200 Pennsylvania Avenue, NW, Washington, DC 20460. A copy of the proposed settlement agreement is available from Phyllis J. Cochran, (202) 564-7606. A copy of the proposed settlement agreement was also lodged in the case with the Clerk of the United States Court of Appeals for the District of Columbia Circuit on January 11, 2002.

SUPPLEMENTARY INFORMATION: EPA promulgated the National Emission Standard for Hazardous Air Pollutants for Secondary Aluminum Production, 40 CFR part 63, subpart RRR, on March 23, 2000. 65 FR 15170. Because aluminum die casters and aluminum foundries may conduct some of the same operations as other secondary aluminum producers, Subpart RRR was intended to apply to those die casters and foundries which conduct such operations.

During the original rulemaking, representatives of the aluminum die casters and foundries argued that they are not really secondary aluminum producers and should therefore be wholly exempt from the rule. In response, EPA agreed that not all die casters and foundries engage in secondary aluminum operations, and that those who do not should not be subject to the rule. EPA also agreed during the rulemaking to permit die casters and foundries to melt contaminated internal scrap without thereby becoming subject to the standard. However, industry representatives insisted that too many facilities would remain subject to the standard. Immediately prior to promulgation, EPA agreed that it would withdraw Subpart RRR as applied to aluminum die casters and foundries and develop a separate MACT standard for these facilities.

After promulgation of the rule, the Petitioners the American Foundrymen's Society, the North American Die Casting Association, and the Non-Ferrous Founders' Society (“Petitioners”) petitioned for judicial review. The parties then negotiated an initial settlement agreement establishing a process to effectuate the commitment by EPA to develop a new MACT standard for these facilities, which was lodged with the D.C. Circuit on July 31, 2000. In that first settlement, EPA agreed that it would stay the current standard for these facilities, collect comprehensive data to support an alternate standard, and then promulgate an alternate standard. However, while collecting information to support the new standard, the parties began exploring the possibility of a new settlement agreement which would be based instead on amendments of the current standard.

In the new settlement, EPA has agreed to propose changes in the present standard which would permit customer returns to be treated as internal scrap, and would permit facilities operated by the same company at different locations to be aggregated for purposes of determining what is internal scrap. Some other technical changes intended to eliminate potential anomalies in applicability determinations will also be proposed. The settlement requires the EPA Administrator to sign a proposed rule incorporating these changes by May 10, 2002, and to take final administrative action concerning that proposal by December 13, 2002.

For a period of thirty (30) days following the date of publication of this notice, EPA will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

Dated: February 22, 2002.
Alan W. Eckert,
Associate General Counsel, Air and Radiation Law Office.

[FR Doc. 02-5189 Filed 3-4-02; 8:45 am]

BILLING CODE 6560-50-P